DEPARTMENT OF ENERGY

Federal Energy Regulatory Commission

Combined Notice of Filings

Take notice that the Commission has received the following Natural Gas Pipeline Rate and Refund Report filings:

Filings Instituting Proceedings

Docket Numbers: RP98-25-000.

Applicants: West Texas Gas, Inc.

Description: Monthly Spot Index Price of WEST TEXAS GAS INC.

Filed Date: 12/4/12.

Accession Number: 20121204-5137.

Comments Due: 5 p.m. ET 12/17/12.

Docket Numbers: RP13-369-000.

Applicants: Eastern Shore Natural Gas Company.

Description: Tariff Revisions—General Terms and Conditions to be effective 1/4/2013.

Filed Date: 12/4/12.

Accession Number: 20121204-5074.

Comments Due: 5 p.m. ET 12/17/12.

Docket Numbers: RP13-370-000.

Applicants: Iroquois Gas Transmission System, L.P.

Description: Iroquois Gas Transmission System, L.P. submits tariff filing per 154.204: 12/04/12 HUB Negotiated Rate Blanket Filing—ConocoPhillips to be effective 12/4/2012.

Filed Date: 12/4/12.

Accession Number: 20121204-5099.

Comments Due: 5 p.m. ET 12/17/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1075-001.

Applicants: Arlington Storage Company, LLC.

Description: Arlington Storage Company, LLC—Compliance with Order Accepting 587-V Filing to be effective 12/1/2012.

Filed Date: 12/4/12.

Accession Number: 20121204-5075.

Comments Due: 5 p.m. ET 12/17/12.

Docket Numbers: RP12-1080-002.

Applicants: Steuben Gas Storage Company.

Description: Steuben Gas Storage Company submits tariff filing per 154.203: Steuben Gas Storage Co.—Compliance with Order Accepting Order No. 587-V Filing to be effective 12/1/2012.

Filed Date: 12/4/12.

Accession Number: 20121204-5100.

Comments Due: 5 p.m. ET 12/17/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 5, 2012.
Nathaniel J. Davis, Sr.,
Deputy Secretary.

[FR Doc. 2012-29912 Filed 12-11-12; 8:45 am]

BILLING CODE 6717-01-P